DEPARTMENT OF AGRICULTURE

Animal and Plant Health Inspection Service

[Docket No. APHIS-2022-0028]

Addition of the Kingdom of Thailand and the Republic of North Macedonia to the List of Regions Affected With African Swine Fever

AGENCY: Animal and Plant Health Inspection Service, USDA.

ACTION: Notice.

SUMMARY: We are advising the public that we added the Kingdom of Thailand and the Republic of North Macedonia to the list of regions that the Animal and Plant Health Inspection Service considers to be affected by African swine fever (ASF). We have taken these actions because of confirmation of ASF in the Kingdom of Thailand and the Republic of North Macedonia.

DATES: The Kingdom of Thailand and the Republic of North Macedonia were added to the list of regions APHIS considers to be affected with ASF, effective respectively on January 20, 2022, and February 3, 2022.

FOR FURTHER INFORMATION CONTACT: For further information regarding ASF in the Kingdom of Thailand and the Republic of North Macedonia, contact Dr. John Grabau, Regionalization Evaluation Services, Strategy and Policy, Veterinary Services, APHIS, 920 Main Campus Drive, Venture II, Raleigh, NC 27606; phone: (919) 855-7225; email: AskRegionalization@usda.gov.

SUPPLEMENTARY INFORMATION: The regulations in 9 CFR part 94 (referred to below as the regulations) govern the importation of specified animals and animal products to prevent the introduction into the United States of various animal diseases, including African swine fever (ASF). ASF is a highly contagious disease of wild and domestic swine that can spread rapidly in swine populations with extremely high rates of morbidity and mortality.A list of regions where ASF exists or is reasonably believed to exist is maintained on the Animal and Plant Health Inspection Service (APHIS) website at https://www.aphis.usda.gov/aphis/ourfocus/animalhealth/animal-and-animal-product-import-information/animal-health-status-of-regions/. This list is referenced in § 94.8(a)(2) of the regulations.

Section 94.8(a)(3) of the regulations states that APHIS will add a region to the list referenced in § 94.8(a)(2) upon determining ASF exists in the region, based on reports APHIS receives of outbreaks of the disease from veterinary officials of the exporting country, from the World Organization for Animal Health (WOAH),¹ or from other sources the Administrator determines to be reliable, or upon determining that there is reason to believe the disease exists in the region. Section 94.8(a)(1) of the regulations specifies the criteria on which the Administrator bases the reason to believe ASF exists in a region. Section 94.8(b) prohibits the importation of pork and pork products from regions listed in accordance with § 94.8, except if processed and treated in accordance with the provisions specified in that section or consigned to an APHIS-approved establishment for further processing. Section 96.2 restricts the importation of swine casings that originated in or were processed in a region where ASF exists, as listed under § 94.8(a).

¹ The World Organization for Animal Health internationally follows a British English spelling of “organisation” in its name; it was formerly the Office International des Epizooties, or OIE, but on May 28, 2022, the Organization announced that the acronym was changed from OIE to WOAH.

On January 14, 2022, the veterinary authorities of the Kingdom of Thailand reported to the WOAH an ASF occurrence in that country. On January 20, 2022, in response to the outbreak, APHIS added the Kingdom of Thailand to the list of regions where ASF exists or is reasonably believed to exist. As a result, pork and pork products from the Kingdom of Thailand, including casings, are subject to APHIS import restrictions designed to mitigate the risk of ASF introduction into the United States.

On January 10, 2022, the veterinary authorities of the Republic of North Macedonia reported to the WOAH an ASF occurrence in that country. On February 3, 2022, in response to the outbreak, APHIS added the Republic of North Macedonia to the list of regions where ASF exists or is reasonably believed to exist. As a result, pork and pork products from the Republic of North Macedonia, including casings, are subject to APHIS import restrictions designed to mitigate the risk of ASF introduction into the United States.

With the publication of this notice, we are informing the public that we added: The Kingdom of Thailand to the list of regions APHIS considers to be affected with ASF, effective January 20, 2022, and the Republic of North Macedonia to the list of regions APHIS considers to be affected with ASF, effective February 3, 2022. This notice serves as an official record and public notification of these actions.

Congressional Review Act

Pursuant to the Congressional Review Act (5 U.S.C. 801 et seq.), the Office of Information and Regulatory Affairs designated this action as not a major rule, as defined by 5 U.S.C. 804(2).

Authority: 7 U.S.C. 1633, 7701-7772, 7781-7786, and 8301-8317; 21 U.S.C. 136 and 136a; 31 U.S.C. 9701; 7 CFR 2.22, 2.80, and 371.4.

Done in Washington, DC, this 9th day of February 2023.
Anthony Shea,
Administrator, Animal and Plant Health Inspection Service.

[FR Doc. 2023-03134 Filed 2-14-23; 8:45 am]

BILLING CODE 3410-34-P